ARCHITECTURAL AND TRANSPORTATION BARRIERS COMPLIANCE BOARD

[Docket No. ATBCB-2023-0002]

Proposed Renewal of Information Collection; Online Architectural Barriers Act (ABA) Complaint Form

AGENCY: Architectural and Transportation Barriers Compliance Board.

ACTION: Notice and request for comments.

SUMMARY: In accordance with the Paperwork Reduction Act of 1995 (PRA), the Architectural and Transportation Barriers Compliance Board (Access Board) announces its submission, concurrently with the publication of this Notice or soon thereafter, of the following information collection request to the Office of Management and Budget (OMB) for its review and approval. The Access Board invites comment on its “Online Architectural Barriers Act (ABA) Complaint Form.” (OMB Control No. 3014-0012). The information collection is scheduled to expire on September 30, 2023, and we propose to continue using the instrument for an additional three years.

DATES: OMB has up to 60 days to approve or disapprove the information collection request, but may respond after 30 days. Therefore, public comments should be submitted to OMB by not later than September 18, 2023 in order to be assured of consideration.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: Mario Damiani, Office of General Counsel, U.S. Access Board, 1331 F Street NW, Suite 1000, Washington, DC 20004-1111. Phone: 202-272-0050 (voice); 202-272-0064 (TTY). Email: damiani@access-board.gov.

SUPPLEMENTARY INFORMATION: Under the PRA and its implementing regulations (5 CFR part 1320), Federal agencies must obtain approval from the Office of Management and Budget (OMB) for each collection of information they conduct or sponsor. “Collection of information,” within the meaning of the PRA, includes agency requests that pose identical questions to, or impose reporting or recording keeping obligations on, ten or more persons, regardless of whether response to such request is mandatory or voluntary. See 5 CFR 1320.3(c); see also 44 U.S.C. 3502(3). Before seeking clearance from OMB, agencies are generally required, among other things, to publish both 60-day and 30-day Notices in the Federal Register concerning any proposed information collection—including extension of a previously-approved collection—and provide an opportunity for comment. See 44 U.S.C. 3506(c)(2)(A); 5 CFR 1320.8(d)(1).

To comply with this requirement, the Access Board published its 60-day Notice in June 2023. See 88 FR 38015 (June 12, 2023). The Access Board is now publishing this 30-day Notice for the proposed renewal of this information collection. OMB's approval of the current version of the Access Board's Online ABA Complaint Form is set to expire in September 2023.

OMB Control Number: 3014-0012.

Title: Online Architectural Barriers Act (ABA) Complaint Form.

Type of Review: Extension of a currently approved information collection.

Abstract: The Access Board enforces the Architectural Barriers Act of 1968 (ABA) by investigating complaints from members of the public concerning particular buildings or facilities, i.e., those that are: constructed or altered by or on behalf of the United States; leased with Federal funds; or constructed or altered with funds from a Federal grant or loan. Over 90% of complaints the Access Board receives each year are submitted using the standardized, user-friendly, and accessible Online ABA Complaint Form; the remainder are submitted in writing, without the need to use a hard-copy complaint form, by email, mail, or fax. The Online ABA Complaint Form allows complaints to be filed 24 hours per day, seven days per week, and allows for greater efficiency, clarity, and timeliness in the complaint filing process and resolution of complaints.

The Online ABA Complaint Form prompts complainants to provide the information the Access Board needs to investigate their complaint. First, complainants must complete the form fields for at least the name of the building or facility and the city and state in which it is located. Second, complainants must describe each barrier to accessibility they have found at the building or facility. Third, complainants are given the option, but are not required, to provide personal information, including their name, address, telephone number(s), and email address. Where provided, personal information is not disclosed outside the agency without the written permission of the complainant. Complainants are also given the option to upload electronic files containing pictures, drawings, or other documents relevant to their complaint. Once any additional information and the complaint is submitted, the system provides complainants confirmation that their complaint has been submitted successfully, a complaint number for them to use when making inquiries about the status of their complaint, and an option to print their complaint. Complainants also receive an automatically generated email (if they have provided an email address) confirming the submission of their complaint.

Description of Respondents: Individual members of the public.

Estimated Total Annual Number of Responses: Approximately 200 individuals submit complaints using the Online ABA Complaint Form each year.

Estimated Frequency of Response: Occasional. Complainants submit one complaint for each building or facility at which they noted accessibility barriers, regardless of the number of barriers encountered.

Estimated Time Burden per Response: On average, about 30 minutes per online complaint; the time burden may vary depending on the number of accessibility barriers identified in a complaint. There is no financial burden on respondents.

Estimated Total Annual Burden Hours: Approximately 100 hours annually.

Request for Comment: Comments are again invited on: (a) whether the proposed collection of information is necessary for performance of the Access Board's work; (b) the accuracy of the estimated burden; (c) ways for the Access Board to enhance the quality, utility, and clarity of the information collection; and (d) ways that the burden could be minimized without reducing the quality of the collected information. If you wish to comment in response to this Notice, you may send your comments as specified under the ADDRESSES section of this Notice by September 18, 2023.

Christopher Kuczynski,
General Counsel.

[FR Doc. 2023-17635 Filed 8-16-23; 8:45 am]

BILLING CODE 8150-01-P